DEPARTMENT OF THE INTERIOR

Bureau of Land Management

[L14400000.PN0000/LLWO350000/20X; OMB Control Number 1004-0009]

Agency Information Collection Activities; Submission to the Office of Management and Budget for Review and Approval; Land Use Application and Permit

AGENCY: Bureau of Land Management, Interior.

ACTION: Notice of information collection; request for comment.

SUMMARY: In accordance with the Paperwork Reduction Act of 1995, the Bureau of Land Management (BLM) is proposing to renew an information collection.

DATES: Interested persons are invited to submit comments on or before April 23, 2020.

ADDRESSES: Written comments and recommendations for the proposed information collection should be sent within 30 days of publication of this notice to www.reginfo.gov/public/do/PRAMain. Find this particular information collection by selecting “Currently under 30-day Review—Open for Public Comments” or by using the search function. Please provide a copy of your comments to the BLM at U.S. Department of the Interior, Bureau of Land Management, 1849 C Street NW, Room 2134LM, Washington, DC 20240, Attention: Chandra Little; or by email to cclittle@blm.gov. Please reference OMB Control Number 1004-0009 in the subject line of your comments.

FOR FURTHER INFORMATION CONTACT: Jessica LeRoy at 541-471-6659. Persons who use a telecommunication device for the deaf may call the Federal Relay Service at 1-800-877-8339, to leave a message for Ms. LeRoy.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format. A Federal Register notice with a 60-day public comment period soliciting comments was published on January 23, 2020, (85 FR 3943) and the comment period ended March 23, 2020. The BLM received no comments.

We are again soliciting comments on the proposed ICR that is described below. We are especially interested in public comment addressing the following issues: (1) Is the collection necessary to the proper functions of the BLM; (2) will this information be processed and used in a timely manner; (3) is the estimate of burden accurate; (4) how might the BLM enhance the quality, utility, and clarity of the information to be collected; and (5) how might the BLM minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

The following information pertains to this request:

Abstract: This control number enables the BLM to obtain the information that is necessary in order to authorize the issuance of leases, permits, and easements for a variety of uses of public lands.

Title of Collection: Land Use Application and Permit.

OMB Control Number: 1004-0009.

Form: Form 2920-1.

Type of Review: Extension of a currently approved collection.

Description of Respondents: Individuals, state and local governments, and businesses that wish to use public lands.

Total Estimated Number of Annual Responses: 407.

Estimated Completion Time per Response: Varies from 1 to 120 hours, depending on activity.

Total Estimated Number of Annual Burden Hours: 2,455.

Respondent's Obligation: Required to obtain or retain a benefit.

Frequency of Collection: On occasion.

Total Estimated Annual Nonhour Burden Cost: $145,760.

An agency may not conduct or sponsor, and a person is not required to respond to, a collection of information unless it displays a currently valid OMB control number. The authority for this action is the Paperwork Reduction Act of 1995 (44 U.S.C. 3501 et seq.).

Chandra Little,
Acting Information Collection Clearance Officer, Bureau of Land Management.

[FR Doc. 2020-06137 Filed 3-23-20; 8:45 am]

BILLING CODE 4310-84-P